DEPARTMENT OF THE INTERIOR

Fish and Wildlife Service

Endangered and Threatened Wildlife and Plants; Draft Cactus Ferruginous Pygmy-Owl Recovery Plan

AGENCY: Fish and Wildlife Service, Interior.

ACTION: Notice of availability; reopening of public comment period.

SUMMARY: We, the U.S. Fish and Wildlife Service (Service) announce the reopening of the comment period for the Draft Recovery Plan for the Cactus Ferruginous Pygmy-owl (Glaucidium brasilianum cactorum) (Draft Plan). The species is currently known to occur on Federal, state, tribal, and private lands in Pima and Pinal Counties in southern Arizona. We solicit review and comment from the public on this Draft Plan. Since the prior comment period, additional information from the administrative record concerning the locations of pygmy-owls has become available to the public, in part as a result of a court ruling in National Association of Home Builders v. Norton, 309 F.3d 26 (D.C. Cir. 2002). Thus, we are reopening the comment period on the Draft Plan to allow all interested parties additional time to provide comments. Comments previously submitted need not be resubmitted, because they will be incorporated into the public record as part of this reopening of the comment period, and will be fully considered in the Final Plan.

DATES: Submit comments on or before June 30, 2003.

ADDRESSES: Written comments and materials regarding the plan should be addressed to the Field Supervisor, Arizona Ecological Services Field Office, U.S. Fish and Wildlife Service, 2321 West Royal Palm Road, Suite 103, Phoenix, Arizona, 85021-4951 or faxed to 602/242-2513, or emailed to cfpo_recovery@fws.gov. The additional materials from the administrative record, as well as comments and materials received, are available for public inspection, by appointment, during normal business hours at the above address. You may also write the Field Supervisor at the address above, or call 602/242-0210 to have a copy mailed to you or made available for you to pick up at the address above. Persons wishing to review the Draft Recovery Plan may also obtain a copy by accessing the Service's Arizona Ecological Service Field Office internet web page at Arizonaes.fws.gov.

FOR FURTHER INFORMATION CONTACT: Scott Richardson, Arizona Ecological Services Tucson Suboffice, U.S. Fish and Wildlife Service, 110 South Church Avenue, Suite 3450, Tucson, Arizona, 85701 (520/670-4643).

SUPPLEMENTARY INFORMATION:

Background

Restoring an endangered or threatened animal or plant species to the point where it is again a secure, self-sustaining member of its ecosystem is a primary goal of our endangered species program. To help guide the recovery effort, we are working to prepare recovery plans for most of the listed species native to the United States. Recovery plans describe actions considered necessary for conservation of species, establish criteria for the recovery levels for downlisting or delisting them, and estimate time and cost for implementing the recovery measures needed. The current comment period for the Draft Plan closed on April 9, 2003.

The Endangered Species Act of 1973 (Act), as amended (16 U.S.C. 1531 et seq.), requires the development of recovery plans for listed species unless such a plan would not promote the conservation of a particular species. Section 4(f) of the Act, as amended in 1988, requires that public notice and an opportunity for public review and comment be provided during recovery plan development. We will consider all information presented during the public comment period prior to approval of each new or revised recovery plan. We, along with other Federal agencies, will take these comments into account in the course of implementing approved recovery plans.

The Draft Plan describes the status, current management, recovery objectives and criteria, and actions needed to reclassify the pygmy-owl from endangered to threatened. The Draft Plan was developed in coordination with the Service and by an appointed Recovery Team which includes a group of scientists with expertise in the ecology of the pygmy-owl and other raptors (Technical Group) together with a team of stakeholders (the Implementation Group), which includes members of affected parties (i.e., tribes, state agencies, counties, towns, developers, environmental groups, ranchers, mining, and private property rights groups). The Draft Plan has undergone peer review by scientists, conservation biologists, range experts, and others experienced in reviewing recovery plans. This Draft Plan incorporates their comments where applicable. Additional peer review will be conducted during the current public comment period.

The pygmy-owl occurs in a variety of scrub and woodland communities, including riverbottom woodlands, woody thickets, Sonoran desertscrub, and semidesert grasslands. The pygmy-owl occurs in areas with fairly dense woody thickets or woodlands with trees and/or cacti large enough to support nesting cavities. They are found below 1,200 meters (4,000 feet ). We determined in 1997 that the distinct population segment in Arizona of the pygmy-owl was endangered (62 FR 10730) primarily because of habitat destruction. Factors identified included (1) present or threatened destruction of their habitat and range, (2) inadequate existing regulatory mechanisms, and (3) other natural or manmade factors affecting their continued existence. The Draft Plan contains actions to address these factors.

Public Comments Solicited

We solicit written comments on the Draft Plan. In particular, we are soliciting specific comments on:

1. Any information on the numbers and distribution of the pygmy-owl not considered in the Draft Plan and their relation to proposed recovery actions;

2. Whether we have looked at the right biological factors and other relevant data related to the quantity and quality of available pygmy-owl habitat and what habitat is necessary to the recovery of the species;

3. Land use practices and current or planned activities within Recovery Areas and their possible impacts on proposed recovery actions.

All comments received by us on or before the date specified in the DATES section above will be considered prior to approval of the plan.

Authority

The authority for this action is section 4(f) of the Endangered Species Act, 16 U.S.C. 1533(f).

Dated: April 16, 2003.
H. Dale Hall,
Regional Director, Region 2.

[FR Doc. 03-10635 Filed 4-29-03; 8:45 am]

BILLING CODE 4310-55-P